DEPARTMENT OF HEALTH AND HUMAN SERVICES

National Institutes of Health

National Institute on Minority Health and Health Disparities; Amended Notice of Meeting

Notice is hereby given of a change in the meeting of the National Advisory Council on Minority Health and Health Disparities on May 11, 2018, 8:00 a.m. to adjournment, Neuroscience Center Building, Conference Rooms C, D, and E, Bethesda, MD 20892, which was published in the Federal Register on March 30, 2018, 83 FR 13765.

The notice is being amended to include an addendum to the agenda of the National Advisory Council on Minority Health and Health Disparities. During the Open session on May 11, 2018, the NIMHD Reorganization Update will be presented from 12:10 p.m.-12:30 p.m. The meeting location remains the same. This meeting is partially closed to the public.

Dated: April 23, 2018.
David D. Clary,
Program Analyst, Office of Federal Advisory Committee Policy.

[FR Doc. 2018-08988 Filed 4-27-18; 8:45 am]

BILLING CODE 4140-01-P